DEPARTMENT OF THE INTERIOR

National Park Service

[NPS-WASO-NAGPRA-NPS0038395; PPWOCRADN0-PCU00RP14.R50000]

Notice of Intended Repatriation: Autry Museum of the American West, Los Angeles, CA

AGENCY: National Park Service, Interior.

ACTION: Notice.

SUMMARY: In accordance with the Native American Graves Protection and Repatriation Act (NAGPRA), the Autry Museum of the American West intends to repatriate certain cultural items that meet the definition of unassociated funerary objects or sacred objects and that have a cultural affiliation with the Indian Tribes or Native Hawaiian organizations in this notice.

DATES: Repatriation of the cultural items in this notice may occur on or after September 5, 2024.

ADDRESSES: Karimah Richardson, M.Phil., RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West, and additional information on the determinations in this notice, including the results of consultation, can be found in the summary or related records. The National Park Service is not responsible for the determinations in this notice.

Abstract of Information Available

A total of 36 cultural items have been requested for repatriation. The number of unassociated funerary objects are one stone bead, 33 shell beads, one fishhook blank, and one possible stone pendant. In 1873, Mr. Charles D. Voy (1.F), collected cultural items from an unknown site on San Miguel Island, Channel Islands, in Santa Barbara County, CA. Mr. Voy, gifted the cultural items to the University of California, Berkeley at an unknown date. In 1929, Mr. Alfred L. Kroeber from the University of California, Department of Anthropology, at Berkeley gave some cultural items to the Southwest Museum (now part of the Autry Museum of the American Indian).

A total of two cultural items have been requested for repatriation. The number of unassociated funerary objects are one crescent knife and one coastal contracting stem cluster point. In 1901, Dr. Philip Mills Jones (1.F) collected cultural items from unknown sites on Santa Rosa Islands, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of eight cultural items have been requested for repatriation. The number of unassociated funerary objects are two columella (missing), one comal, one pipe, one wand crystal, and three wand handle fragments. In 1901, Dr. Philip Mills Jones (1.F) collected cultural items from Campsite 2 (CA-SRI-60) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of one cultural item has been requested for repatriation. The one unassociated funerary object is a whistle. In 1901, Dr. Philip Mills Jones (1.F) collected cultural items from SW of Southeast Anchorage, Becher's Bay, Campsite 8 (CA-SRI-76) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of 48 cultural items have been requested for repatriation. The 48 unassociated funerary objects are shell pendants (five are currently missing). In 1901, Dr. Philip Mills Jones (1.F) collected cultural items from Campsite 11 (CA-SRI-20) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of three cultural items have been requested for repatriation. The three unassociated funerary objects are two stone beads and one bone tube. In 1901, Dr. Philip Mills Jones (1.F) collected cultural items from the southeast coast of Canada La Jolla, Campsite 12, cave 1 (CA-SRI-154) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of 194 cultural items have been requested for repatriation. The 194 unassociated funerary objects are shell pendants (179 are currently missing). In 1901, Dr. Philip Mills Jones (1.F) collected cultural items from Campsite 21 (CA-SRI-34) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of eight cultural items have been requested for repatriation. The eight unassociated funerary objects are four hair pins and four shell ornaments. In 1901, Dr. Philip Mills Jones (1.F) collected cultural items from Campsite 30 (CA-SRI-6) on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of nine cultural items have been requested for repatriation. The nine unassociated funerary objects are two inlaid bone tubes, one bone tube, and six fishhook blanks (two are currently missing). In 1901, Dr. Philip Mills Jones (1.F) collected cultural items from Campsite 35 (CA-SRI-31), on the south coast NW of Bee Rock, on Santa Rosa Island, Channel Islands, in Santa Barbara County, CA. Dr. Jones was commissioned by Mrs. Phoebe Apperson Hearst to conduct archaeological explorations for the newly established Museum of Anthropology at the University. In 1929, Mr. Alfred L. Kroeber from the University of California, Department of Anthropology, at Berkeley gave some cultural items to the Southwest Museum.

A total of 72 cultural items have been requested for repatriation. The 72 unassociated funerary objects are one abalone shell with a clump of red ochre, two doughnut stones, one drill, one coastal contracting stem cluster point fragment, four flakes (one are currently missing), 27 olivella shell beads, 29 shell beads (missing), two shell ornaments, four stone beads, and one stone pendant. As part of D.B. Roger's Expedition (1.F) to the Islands between 1927 and 1928, Mr. Ronald Olson collected the cultural items from Forney's Cove (CA-SCrI-3), Santa Cruz Island, Channel Islands, in Santa Barbara County, CA. In 1929, Alfred L. Kroeber from the University of California, Department of Anthropology, at Berkeley gave some cultural items to the Southwest Museum (now part of the Autry Museum of the American West).

A total of seven cultural items have been requested for repatriation. The seven unassociated funerary objects are one fishhook fragment and six drills. In 1928, as part of D.B. Roger's Expedition to the Islands, Ronald Olson (1.F) collected cultural items from West Ranch (CA-ScrI-83) on Santa Cruz Island, Channel Islands, in Santa Barbara County, CA. In 1929, Mr. Alfred L. Kroeber from the University of California Department of Anthropology, at Berkeley gave some cultural items to the Southwest Museum.

A total of 91 cultural items have been requested for repatriation. The 91 unassociated funerary objects are one bone bead, one cup, three faunal bone tube fragments, four fishhook fragments, two hair pin fragments, one knife, 10 matting fragments, 20 shell beads, two shell ornaments, 44 stone beads, one stone pendant, and two possible whistle fragments. In 1928, as part of D.B. Roger's Expedition to the Islands, Ronald Olson (1.F) collected cultural items from Posa Landing (CA-SCrI-100) on Santa Cruz Island, Channel Islands, in Santa Barbara County, CA. In 1929, Mr. Alfred L. Kroeber from the University of California, Department of Anthropology, at Berkeley gave some cultural items to the Southwest Museum.

A total of nine cultural items have been requested for repatriation. The nine unassociated funerary objects are four cordage fragments, one cup, two drills, one lot of soap root brush with fragments, and one shell pendant. In 1928, as part of D.B. Roger's Expedition to the Islands, Ronald Olson (1.F) collected cultural items from Smuggler's Cove (CA-SCrI-504) on Santa Cruz Island, Channel Islands, in Santa Barbara County, CA. In 1929, Mr. Alfred L. Kroeber from the University of California, Department of Anthropology, at Berkeley gave some cultural items to the Southwest Museum.

A total of two cultural items have been requested for repatriation. The two unassociated funerary objects are spear points. In 1928, Mr. Ronald Olson (1.F) collected the cultural item from Olson Site 2, 600 yards south of More Ranch (CA-SBa-43), in Santa Barbara County, CA when he was a student at the University of California, Berkeley. In 1929, Alfred L. Kroeber from the University of California, Department of Anthropology, at Berkeley gave some cultural items to the Southwest Museum.

A total of 10 cultural items have been requested for repatriation. The 10 unassociated funerary objects are one pipe, one inlaid bone tube, one bowl, one cooking pot that is Gabrielino/Tongva style, and six shell beads. In 1928, Mr. Ronald Olson (1.F) collected cultural items from Olson Site 1 (More Ranch CA-SBa-46), Goleta, in Santa Barbara County, CA when he was a student at the University of California, Berkeley. In 1929, Alfred L. Kroeber from the University of California, Department of Anthropology, at Berkeley gave some cultural items to the Southwest Museum.

A total of 12 cultural items have been requested for repatriation. The 12 unassociated funerary objects are 10 stone beads, one shell bead, and one faunal tooth pendant. At an unknown date, the Archaeological Society of Southern California (ASSC), a non-professional group, and volunteer Mr. Harry Clayton Davis (1052.G) collected cultural items from “site 9”, surface of both Prisoner's Harbor (CA-ScrI-240) and Coche Point, on Santa Cruz Island, Channel Islands, in Santa Barbara County, CA. Mr. Davis gifted the cultural items in 1946 to the Southwest Museum.

A total of 219 cultural items have been requested for repatriation. The 219 unassociated funerary objects are one breast ornament (missing), two charms (missing), one cooking pot (missing), one dress ornament (missing), one fishhook (missing), one hook, one pot, 10 shell beads, two shell ornaments, one shell pendant, five stone beads (three are missing), one stone implement (missing), one stone pendant, one string of shell beads (missing), one possible sucking tube, 186 trade beads, one wand handle, and two whistles (one is missing). Between 1877 and 1895, Dr. Frank M. Palmer (2.P), collected cultural items from unknown sites on Santa Cruz Island, Channel Islands, in Santa Barbara County, CA. In 1895, the Southwest Museum purchased the personal collection of Dr. Palmer, their first museum curator.

A total of 41 cultural items have been requested for repatriation. The 41 unassociated funerary objects are one bone bowl, one bone tube, one grave marker, one pin fragment, 24 shell ornaments, one stone bone, three stone pendants, and nine whistle fragments. In 1958, Mr. Thomas Hayes Meagher (1593.G) collected cultural items from unknown sites on Santa Cruz Island, Channel Islands, in Santa Barbara County, CA. Mr. Meagher gifted the cultural items to the Southwest Museum in 1959.

A total of 18 cultural items have been requested for repatriation. The 18 unassociated funerary objects are one lot of asphaltum (missing), three charm stones (one missing), one crystal charm, two fishhooks (two missing), one abalone shell ornament, one abalone shell pendant (missing), two soap root brushes, six stone beads (two missing), and one stone pendant. Between 1877 and 1895, Dr. Frank M. Palmer (2.P), collected cultural items from unknown sites on San Miguel Island, Channel Islands, in Santa Barbara County, CA. The Southwest Museum purchased Dr. Palmer, their first museum curator, personal collection in 1895.

A total of four cultural items have been requested for repatriation. The four unassociated funerary objects are bird claw pendants. On an unknown date, Mr. Franklin R. Johnston (948.G), collected cultural items from an unknown site on San Miguel Island, Channel Islands, in Santa Barbara County, CA. Mr. Franklin R. Johnston gifted the cultural items in 1944 to the Southwest Museum.

A total of two cultural items have been requested for repatriation. The two unassociated funerary objects are one shell pendant and one shell bead. On an unknown date, Dr. Emory W. Thurston (1521.G) collected cultural items from an unknown site on San Miguel Island, Channel Islands, in Santa Barbara County, CA. Dr. Thurston gifted the cultural items in 1958 to the Southwest Museum.

A total of 1,647 cultural items have been requested for repatriation. The 1,647 unassociated funerary objects are 23 burned shell beads, 1,415 shell beads, 183 shell ornaments, and 26 trade beads. In 1938, Mr. Willy Stahl (830.G) collected cultural items from Cuyler's Harbor on San Miguel Island, Channel Islands, in Santa Barbara County, CA. Mr. Stahl, a volunteer (1937-1946) and later Associate in Archaeology (1947-1948) at the Southwest Museum, gifted the cultural items to the Southwest Museum in 1939.

A total of 94 cultural items have been requested for repatriation. The 94 unassociated funerary objects are one bone whistle (missing), one possible bird effigy, one boat effigy, one bone implement (missing), one bone tube, one bone pot, one charm pendant, one charm stone (missing), one chisel (missing), one composite fishhook shank, one cooking pot (missing), three cups, one disc (missing), four doughnut stones (one missing), 13 dress ornaments (two missing), one lot of dress ornaments (missing), one drill, nine fishhook barbs (one missing), two flakers (missing), one grooved sinker (missing), four hair pins, one harpoon point, one ladle (missing), one natural formation (missing), three necklaces (missing), one ornament (missing), one paint pot (missing), 11 pendants (eight missing), one pestle, two pins, one polishing stone, one porpoise effigy, one ring (missing), one shell bead, one spindle whorl, four stone beads, one stone bowl, one stone implement (missing), one lot of trade beads (missing), one tube, one Vandenberg Contracting Stem point, one weight, one possible weight, one whale effigy, and five whistles (one missing). Between 1877 and 1895, Dr. Frank M. Palmer (2.P), collected cultural items from unknown sites on Santa Rosa Island, Channel Islands, in Santa Barbara County, CA. The Southwest Museum purchased the collection from the museum's first curator, Dr. Frank M. Palmer, in 1895.

A total of two cultural items have been requested for repatriation. The two unassociated funerary objects are one sweat scraper and one wooden staff. At an unknown date, Archaeological Society of Southern California (ASSC), a non-professional group, and volunteer Mr. Harry Clayton Davis (1052.G) collected cultural items from ASSC “Site 4—picked up on the surface of Santa Rosa Island”, Channel Islands, in Santa Barbara County, CA. Mr. Davis gifted the cultural items to the Southwest Museum in 1946.

A total of 178 cultural items have been requested for repatriation. The 178 unassociated funerary objects are 177 shell beads and one shell pendant. In an unknown year, Mr. Edward W. Bodman (1479.G) collected cultural items from an unknown site on Santa Rosa Island, Channel Islands, in Santa Barbara County, CA. His wife gifted the objects in 1957 to the Southwest Museum.

A total of one cultural item has been requested for repatriation. The one unassociated funerary object is a modified burned faunal bone. In an unknown year, an unknown collector collected the cultural item (5.C) from an unknown site in Santa Barbara County, CA. The object was found “in collections” with no object number, but with “Santa Barbara” and “1/9” written on it. It is unknown how the cultural item came to the Southwest Museum.

A total of two cultural items have been requested for repatriation. The two unassociated funerary objects are pestles. In an unknown date, an unknown collector collected the cultural items (18.C) from unknown sites in Santa Barbara County, CA. The objects were found in “in collections” with no object number. It is unknown how the objects came to the Southwest Museum. One pestle has “744/S.B. CO CAL” written on it and the second pestle has “777/S.B. CO CAL” written on it.

A total of 29 cultural items have been requested for repatriation. The 29 unassociated funerary objects are four bowls, four charm stones (one missing), one concretion, two mortars, four paint cups, one perforated stone, nine pestles, one pipe, one pipe preform, one pitcher, and one prong. In the late 1870s, Mr. James Wesley Calkin (311.G) collected cultural items from unknown sites in Santa Barbara County, CA. Mr. Calkins' daughter gifted the cultural items to the Southwest Museum in 1923.

A total of four cultural items have been requested for repatriation. The four unassociated funerary objects are modified stones. At an unknown date, Dr. Emory Wright Thurston (1521.G) collected cultural items at an unknown site in Santa Barbara County, CA. Dr. Thurston gifted the cultural items to the Southwest Museum in 1958.

A total of 15 cultural items have been requested for repatriation. The 15 unassociated funerary objects are four hair ornaments, five bone beads, one stone bead, one tarring pebble, one asphaltum applicator, one pestle, and two rubbing stones. At an unknown date, the Archaeological Society of Southern California (ASSC), a non-professional group, and volunteer Mr. Harry Clayton Davis (1052.G) collected cultural items from a hobo camp, near Mishopshnow Village, Carpinteria, in Santa Barbara County, CA. Mr. Davis gifted the cultural items to the Southwest Museum in 1946.

A total of 2,427 cultural items have been requested for repatriation. The 2,427 unassociated funerary objects are one arrow (missing), five beads (missing), one bone bead (missing), two bowls, one breast ornament (missing), one lot of buttons (missing), three charm stones (two missing), two comals (missing), two cooking pots (missing), one cup (missing), three doughnut stones, one drill (missing), one Excelsior point, one grinder (missing), one knife (missing), one knife handle (missing), one metate (missing), two mortars (one missing), three necklaces (missing), one paint cake, one paint pot, one pendant (missing), four pestles (three missing), two pipes (one missing), one pot (missing), two pot lids, one pot with asphaltum, three shell beads, two shell ornaments, one organic spoon fragment, 21 stone beads (five missing), one stone ring, 2,352 trade beads, and one Vandenberg Contracting Stem Point. Between 1877 and 1895, Dr. Frank M. Palmer (2.P), collected cultural items from unknown sites along the coast of Santa Barbara County, CA. In 1895, the Southwest Museum purchased the personal collection of Dr. Palmer, their first museum curator.

A total of three cultural items have been requested for repatriation. The three unassociated funerary objects are two shell ornaments and one shell bead. In May 1947, the Archaeological Survey Association of Southern California (ASA) in partnership with the Southwest Museum (3.S) conducted a survey at Ajuahuilashmu Village (CA-SBa-84/CA-SBa-117), at El Capitan, in Santa Barbara County, CA. The village is now identified as two archaeological sites (CA-SBA-84 and CA-SBA-117). El Capitan State Beach was classified in June 1962 as a state beach by the State Park Commission, thus, the objects were collected before it became a state beach. Based on the temporally diagnostic artifacts and radiocarbon dates, the site has been dated to at least three periods of occupation: one from ca. 5000 years BP, one from between 2500- and 1250-years BP, and the last after 1500 years BP.

A total of 20 cultural items have been requested for repatriation. The 20 unassociated funerary objects are one blade, one burnt faunal bone fragments, one chopper, one possible core, three debitages, two fire affected rocks, four flakes, one graver, one possible scraper, one smoothing stone, one thumbnail scraper, and three utilized flakes. In April 1947, Archaeological Survey Association of Southern California (ASA) in partnership with the Southwest Museum (7.S) conducted a survey at a “burial area at top of sea cliff” at Piedra De Amolar CA-SBa-93 (now known as Canada del Molino), Gaviota State Park, in Santa Barbara County, CA.

A total of one cultural item has been requested for repatriation. The one unassociated funerary object is a mortar. In the late 1870s, Mr. James Wesley Calkin (311.G) collected cultural items from Goleta in Santa Barbara County, CA. Mr. Calkins' daughter gifted the collection to the Southwest Museum in 1923.

A total of two cultural items have been requested for repatriation. The two unassociated funerary objects are one possible asphaltum applicator and one modified stone. At an unknown date, Mr. Franklin R. Johnston (948.G), possibly thru the Archaeological Society of Southern California (ASSC), a non-professional group, collected cultural items from the “Old Camp” at Goleta Island (aka Mescalitan Island CA-SBa-46), above Santa Barbara in Santa Barbara County, CA. Mr. Franklin R. Johnston gifted the cultural items in 1944 to the Southwest Museum. CA-SBa-46 dates to the Oak Grove period (prior to 3000 B.C) up to the Historic period.

A total of one cultural item has been requested for repatriation. The one unassociated funerary object is an ochre. At an unknown date, the Archaeological Society of Southern California (ASSC), a non-professional group, and volunteer Mr. Harry Clayton Davis (1052.G) collected cultural items from ASSC “site 11” at Goleta Slough, in Santa Barbara County, CA. Mrs. Harry Clayton Davis gifted the cultural items to the Southwest Museum in 1946.

A total of 45 cultural items have been requested for repatriation. The 45 unassociated funerary objects are four asphaltum applicators, one awl, four awl fragments, one leaf point, one scraper, 31 shell beads, two stone bones, and one tarring pebble. At an unknown date, the Archaeological Society of Southern California (ASSC), a non-professional group, and volunteer Mr. Harry Clayton Davis excavated at ASSC “Site 6” lower section of Rincon Point below railroad and highway cut, Rincon Pont (CA-SBa-1) in Santa Barbara County, CA. Mrs. Harry Clayton Davis (1052.G) gifted the cultural items to the Southwest Museum in 1946. Rincon Point (CA-SBa-1) contains both the Chumash village of Suku and a cemetery.

A total of 11,941 cultural items have been requested for repatriation. The 11,941 unassociated funerary objects are one abalone shell with asphaltum plugs, one atlatl weight (missing), 13 awl tips, 23 beads, 12 bone beads (one missing), one Canalino Triangular point, one charm stone, two choppers (one missing), three Coastal Contracting Stem Cluster Points, one contracting stem point, seven crystals, one dart (missing), four drills, three Excelsior Points, one grinding stone, one ground stone, one hammerstone, one knife, five manos, one mortar fragment, one ochre, one paint stone, two pestles, one plug, one point fragment, one ring with inlaid beads, two rubbing stones, 11,035 shell beads, five shell ornaments, one shell pendant, 26 stone beads, 779 possible stone beads, one stone ornament, and two stone pendants. At an unknown date, the Archaeological Society of Southern California (ASSC), a non-professional group, and volunteer Mr. Harry Clayton Davis excavated at ASSC “Site 1”, “the Indian cemetery portion of Rincon Point” (CA-SBa-1), in Santa Barbara County, CA. Mrs. Harry Clayton Davis (1052.G) gifted the cultural items to the Southwest Museum in 1946. Rincon Point (CA-SBa-1) contains both the Chumash village of Suku and a cemetery.

A total of one cultural item has been requested for repatriation. The one unassociated funerary objects is a charm stone. In the late 1870s to 1911, Mr. James Wesley Calkins (311.G) collected a cultural item from Rincon Point (CA-SBa-1), in Santa Barbara County, Mr. Calkins' daughter, Mrs. Sydney J. Parsons, gifted the cultural items to the Southwest Museum in 1923. Rincon Point (CA-SBa-1) contains both the Chumash village of Suku and a cemetery.

A total of 479 cultural items have been requested for repatriation. The 479 unassociated funerary objects are two awls (missing), seven bone bead fragments, one bone pendant, one bone tube, 11 charm stones, four composite fishhook shanks, 13 drills (two missing), three eccentric crescent knives, two gorgets, two gravers, three hair pin fragments, one hammerstone, one possible hammerstone, one possible harpoon prong, one inlaid stone bead, one inlaid stone tube (missing), three knives, eight manos (three missing), four minerals, one modified bone (missing), two modified stones, 13 mortars (four missing), one possible mortar preform, four net weights, one nut anvil, one lot of obsidian (missing), one paint cup, one paint mortar, 26 pestles (six missing), one point preform, one lot of points (missing), four polishing stones, four reamers (missing), 13 scrapers (three missing), 269 shell beads (29 missing), one shell blank, one shell bowl (missing), one shell conglomerate, three shell ornaments (one missing), one shell pendant, five stone (missing), three stone balls, one stone bead, five stone bead preforms, 29 stone beads (missing), six stone pendants, one stone pipe, one stone pipe blank, one stone pipe inlaid fragment, one sun ornament, one tarring pebble, four unmodified faunal bone fragments, and two unmodified shells. Between 1915 to 1918, Mr. and Mrs. Martin Richard Westcott (342.G) collected cultural items from excavations of graves at the upper terrace at Rincon Point (CA-SBa-1), in Santa Barbara County, CA. Mr. and Mrs. Westcott gifted the cultural items to the Southwest Museum in 1924. Rincon Point site contains both the Chumash village of Suku and a cemetery.

A total of one cultural item has been requested for repatriation. The one unassociated funerary object is one sandstone pipe fragment. In an unknown year, an unknown collector collected the cultural item from Rincon Point (CA-SBa-1), in Santa Barbara County, CA. Mr. George Wharton James (421.G) bought the cultural item for $1.00 and gifted it to the Southwest Museum in 1932. It is unknown where Mr. James bought the cultural item or from whom. Rincon Point site contains both the Chumash village of Suku and a cemetery.

A total of 193 cultural items have been requested for repatriation. The 193 unassociated funerary objects are one possible Ano Nuevo Point, 27 Canalino Triangular Point, 34 Coastal Contracting Stem Cluster Points, one contracting stemmed point, five darts, one drill, 33 Excelsior Points, one knife, one lanceolate point, one leaf point, 11 Pacific Coast Side Notched Cluster Points, one point, one spear point (missing), two stemmed points, 68 Vandenberg Contracting Stem points, and five Western Triangular Cluster Points. Between 1915 to 1918, Mr. and Mrs. Martin Richard Westcott (342.G) collected cultural items from the surface of shell knolls in the lower terrace at Rincon Point (CA-SBa-1), in Santa Barbara County, CA. Mr. and Mrs. Westcott gifted the cultural items to the Southwest Museum in 1924. Rincon Point site contains both the Chumash village of Suku and a cemetery.

A total of 2,762 cultural items have been requested for repatriation. The 2,762 unassociated funerary objects are shell beads. In the late 1870s to 1911, Mr. James Wesley Calkins (311.G) collected cultural items from the “Old Rancheria” at Rincon Point (CA-SBa-1), in Santa Barbara County, CA. Mr. Calkins' daughter, Mrs. Sydney J. Parsons, gifted the cultural items to the Southwest Museum in 1923. Rincon Point site contains both the Chumash village of Suku and a cemetery.

A total of 1,364 cultural items have been requested for repatriation. The 1,364 unassociated funerary objects are one cooking slab, one burned bead, 14 burned shell beads, one faunal bone ornament, one hopper mortar, two manos (missing), seven mortars (two missing), one lot of a botanical sample of nicotiana seeds, one paint, 1,052 shell beads, 69 shell ornaments, one stone bead, one stone bowl, 211 trade beads, and one unmodified burned faunal bone fragment. In the late 1870s, Mr. James Wesley Calkin (311.G) collected cultural items from his ranch, Zaca Ranch in Santa Barbara County, CA. His daughter, Mrs. Sydney J. Parsons, gifted the cultural items to the Southwest Museum in 1923.

A total of one cultural item has been requested for repatriation. The one unassociated funerary object is a stone bowl. In the late 1870s, Mr. James Wesley Calkin (311.G) collected a cultural item from an unknown site in the Santa Ynez Valley in Santa Barbara County, CA. His daughter, Mrs. Sydney J. Parsons, gifted the cultural item to the Southwest Museum in 1923.

A total of 10 cultural items have been requested for repatriation. The 10 unassociated funerary objects are seven pipes, one pipe fragment, one pipe preform, and one stone hook. In the late 1870s, Mr. James Wesley Calkin (311.G) collected cultural items possibly from Santa Barbara County, CA. His daughter, Mrs. Sydney J. Parsons, gifted the cultural items to the Southwest Museum in 1923.

A total of two cultural items have been requested for repatriation. The two unassociated funerary objects are one corner notched point preform and one knife. In 1924, Mr. Roy Van Ross and family (679.G), collected cultural items at the Old Potter Hotel Site in Burton Mound (CA-SBa-28), in Santa Barbara County, CA. Mr. Ross gifted the cultural items in 1936 to the Southwest Museum.

A total of two cultural items have been requested for repatriation. The two unassociated funerary objects are one gorget fragment and one ornament fragment. In 1924, Mr. Oliver Cressell Jessen (1830.G), collected cultural items at the Old Potter Hotel, at Burton Mound (CA-SBa-28) in Santa Barbara County, CA. His wife, Mrs. Celia I. Fry Jessen, gifted the cultural items in 1964 to the Southwest Museum.

A total of six cultural items have been requested for repatriation. The six unassociated funerary objects are two mortars, three inlaid bone tubes and one lot of shell beads with asphaltum. In 1924, Mr. Oliver Cressell Jessen (1830.G), collected cultural items from Burton Mound (CA-SBa-28) in Santa Barbara County, CA. His wife, Mrs. Celia I. Fry Jessen, gifted the cultural items in 1964 to the Southwest Museum.

A total of one cultural item has been requested for repatriation. The one unassociated funerary objects is one flageolet. In 1880, an unknown person collected the cultural item from Santa Barbara in Santa Barbara County, CA. Mr. John George Braecklein (964.G) purchased the cultural item for his personal collection and gifted it to the Southwest Museum in 1943.

A total of two cultural items have been requested for repatriation. The two unassociated funerary objects are two whistles. On an unknown date, an unknown person collected the cultural items from Santa Barbara in Santa Barbara County, CA. Mr. John George Braecklein (964.G) purchased the objects for his personal collection and gifted the objects to the Southwest Museum in 1943.

A total of three cultural items have been requested for repatriation. The three unassociated funerary objects are gorgets. On unknown dates, unknown collectors collected cultural items from shell mounds near Santa Barbara, in Santa Barbara County, CA. General Charles McCormick Reeve (491.P) purchased the cultural items from Argonaut Book Shop, in San Francisco, San Francisco County, CA for the Southwest Museum in 1962.

A total of one cultural item has been requested for repatriation. The one unassociated funerary objects is a pipe. Between 1877 and 1895, Dr. Frank M. Palmer (2.P), collected a cultural item from an unknown shell mound along the coast of Santa Barbara County, CA. In 1895, the Southwest Museum purchased the personal collection of Dr. Palmer, their first museum curator.

A total of 12 cultural items have been requested for repatriation. The 12 unassociated funerary objects are one awl, one possible awl fragment, one faunal tooth, two possible grave markers, one hair pin, two modified antler fragments, three ornaments, and one pendant. In August 1936, Mr. Roy Van Ross and family (679.G), collected cultural items from 1 mile north of Lompoc Landing in what is now part of Vandenberg Air Force Base. The objects were collected before it became a base. Mr. Ross gifted the cultural items in 1936 to the Southwest Museum.

A total of seven cultural items have been requested for repatriation. The seven unassociated funerary objects are one awl, two awl fragments, two burned awl fragments, one burned modified faunal fragment, and one possible hair pin fragment. In 1937, Mr. Willy Stahl (830.G) collected cultural items from a village west of Carpinteria, in Santa Barbara County, CA. Mr. Stahl gifted the cultural items to the Southwest Museum in 1939.

A total of one cultural item has been requested for repatriation. The one sacred object is a historic basket tray. At an unknown date, Miss Margaret A. Feeney (116.L) purchased the cultural item from an unknown location in Santa Barbara County, CA. Miss Feeney sent the basket to the Southwest Museum in 1922.

A total of three cultural items have been requested for repatriation. The three sacred objects are pestles. In the late 1870s, Mr. James Wesley Calkin (311.G) collected cultural items from unknown sites, in Santa Barbara County, CA. His daughter, Mrs. Sydney J. Parsons, gifted the cultural items to the Southwest Museum in 1923.

A total of one cultural item has been requested for repatriation. The one sacred object is a pestle. At an unknown date, the Archaeological Society of Southern California (ASSC) a non-professional group, and volunteer Mr. Harry Clayton Davis (1052.G) collected the cultural item from a “hobo camp”, near Mishopshnow Village, Carpinteria, in Santa Barbara County, CA. Mrs. Harry Clayton Davis (1052.G) gifted the cultural items to the Southwest Museum in 1946.

A total of nine cultural items have been requested for repatriation. The nine sacred objects is one feathered skirt, one mat case, one animal skin cover, one sandal, one lot of textile fragments, one scraper, one possible whistle in two fragments, and one basket water bottle. Circa 1931, Mr. James G. James collected cultural items from a cave in the southern edge of Cuyama Valley, on James Ranch, in the Sierra Madre Mountains in Santa Barbara County, CA. The cave was located on hist own property. His brother-in-law Mr. Alfonse H. Heller (217.L) sent the cultural items to the Southwest Museum in 1932.

A total of one cultural item has been requested for repatriation. The one sacred object is an antler scraper. Circa 1931, Mr. James G. James collected the cultural item from a cave in the southern edge of Cuyama Valley, 1.5 miles southeast of James Ranch, in the Sierra Madre Mountains in Santa Barbara County, CA. The cave was not on his ranch. His brother-in-law Mr. Alfonse H. Heller (217.L) sent the cultural item to the Southwest Museum in 1932.

Determinations

The Autry Museum of the American West has determined that:

• The 22,055 unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• The 15 sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 5, 2024. If competing requests for repatriation are received, the Autry Museum of the American West must determine the most appropriate requestor prior to repatriation. Requests for joint repatriation of the cultural items are considered a single request and not competing requests. The Autry Museum of the American West is responsible for sending a copy of this notice to the Indian Tribes and Native Hawaiian organizations identified in this notice and to any other consulting parties.

Authority: Native American Graves Protection and Repatriation Act, 25 U.S.C. 3004 and the implementing regulations, 43 CFR 10.9.

Dated: July 25, 2024.
Melanie O'Brien,
Manager, National NAGPRA Program.

[FR Doc. 2024-17257 Filed 8-5-24; 8:45 am]

BILLING CODE 4312-52-P